DEPARTMENT OF COMMERCE

National Oceanic and Atmospheric Administration

RIN 0648-XM82

Marine Mammals; File No. 14142

AGENCY: National Marine Fisheries Service (NMFS), National Oceanic and Atmospheric Administration (NOAA), Commerce.

ACTION: Notice; receipt of application.

SUMMARY: Notice is hereby given that Niladri Basu, Ph.D., Department of Environmental Health Sciences, University of Michigan, 109 South Observatory Road, Ann Arbor, MI 48109-2029, has applied in due form for a permit to import marine mammal parts for scientific research.

DATES: Written, telefaxed, or e-mail comments must be received on or before February 27, 2009.

ADDRESSES: The application and related documents are available for review by selecting “Records Open for Public Comment” from the Features box on the Applications and Permits for Protected Species (APPS) home page, https://apps.nmfs.noaa.gov/index.cfm, and then selecting File No. 14142 from the list of available applications.

These documents are also available upon written request or by appointment in the following office(s):

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14142.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.) and the regulations governing the taking and importing of marine mammals (50 CFR part 216).

The applicant is requesting a permit to authorize the importation of samples opportunistically obtained from colleagues at the National Environmental Research Institute (NERI) of Denmark (Roskilde, Denmark). The applicant is requesting authorization to import tissues (brain, liver, muscle, kidney, skin) from up to 100 individuals (hunter-killed, stranded) from each of the following species from Greenland, Faroe Islands, and Denmark: ringed seals (Phoca hispida), pilot whale (Globicephala melas), hooded seal (Cystopora cristata), harp seal (Pagophilus groenlandicus), narwhal (Monodon monoceros), beluga (Delphinapterus leucas), harbour porpoise (Phocoena phocoena), harbour seal (Phoca vitulina), grey seal (Haliocherus grypus). No takes of live animals would be authorized under this permit and there would be no non-target species taken incidentally under this permit. A permit is requested for a five-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 16, 2009.
P. Michael Payne,
Chief, Permits, Conservation and Education Division, Office of Protected Resources, National Marine Fisheries Service.

[FR Doc. E9-1729 Filed 1-27-09; 8:45 am]

BILLING CODE 3510-22-S